GENERAL SERVICES ADMINISTRATION

Great Lakes Region 5; Intent To Prepare an Environmental Impact Statement for the Disposal and Potential Reuse of Badger Army Ammunition Plant (BAAP) in Baraboo, Wisconsin

AGENCY: U.S. General Services Administration, Great Lakes Region 5.

ACTION: Notice of intent (NOI) to prepare an Environmental Impact Statement (EIS), and to conduct public scoping.

SUMMARY: The U.S. General Services (GSA) is issuing this notice to advise the public that an Environmental Impact Statement (EIS) will be prepared to assess the potential effects of disposal and potential reuse alternatives of the Badger Army Ammunition Plant (BAAP) in Baraboo, Wisconsin. To ensure that all significant issues related to the proposed action are identified, the GSA will conduct a public scoping meeting.

ADDRESSES: Comments may be mailed or delivered to the GSA at the following address: Mr. William Costa, GSA Property Disposal Division, 10 Causeway Street, Boston, MA 02222-1077.

FOR FURTHER INFORMATION CONTACT: U.S. General Services Administration: Mr. William Costa, (617) 565-5696 or The Louis Berger Group, Inc.: Mr. Jess Commerford, (202) 331-7775.

SUPPLEMENTARY INFORMATION: The GSA will prepare an EIS on disposal of the Badger Army Ammunition Plant and potential reuse alternatives. BAAP covers approximately 7,354 acres in Sauk County, approximately 6 miles south of Baraboo and approximately 30 miles northwest of Madison, Wisconsin. The Sauk County Board of Supervisors has established the Badger Army Ammunition Plant Reuse Committee to develop proposed reuse scenarios for the property. The EIS will address reuse issues developed by the Reuse Committee, which will conclude its work in March 2001. The environmental review of the disposal and potential reuse alternatives will be conducted in accordance with the requirements of the National Environmental Policy Act (NEPA) of 1969, as amended (42 U.S.C. 4371, et seq.), Council on Environmental Quality (CEQ) regulations (40 CFR Parts 1500-1508), U.S. General Services Administration regulations (PBS P 1095.4 B), and all applicable Federal, state, and local government laws, regulations, and policies.

Public Scoping Meeting

The GSA will solicit public comments for consideration and possible incorporation in the Draft EIS through public scoping, including a scoping meeting, on the proposed action. To ensure the full range of issues related to this proposed action are addressed and all significant issues are identified early in the process, comments and suggestions are invited from all interested and/or potentially affected parties. These individuals or groups are invited to attend the public scoping. The meeting location and time will be publicized in local newspapers and elsewhere. Written comments will be accepted throughout this process and can be forwarded to the address provided above.

Dated: October 11, 2000.
William Costa,
Property Disposal Division, General Services Administration.

[FR Doc. 00-26746 Filed 10-17-00; 8:45 am]

BILLING CODE 6820-61-M